EXPORT-IMPORT BANK OF THE UNITED STATES

Economic Impact Policy

This notice is to inform the public that the Export-Import Bank of the United States has received an application for a $135 million direct loan to support the export of approximately $103 million in U.S. aluminum manufacturing equipment and services to a smelter in the United Arab Emirates. The U.S. exports will enable the foreign buyer to increase its production capacity of aluminum by about 574,000 metric tons of aluminum per year. Available information indicates that the majority of this new foreign production will be sold in the following markets: Netherlands, Japan, United Arab Emirates, United States, South Korea, and Thailand. The balance of the foreign production will be sold to China, Cyprus, Egypt, France, Germany, Greece, Hungary, Indonesia, Italy, Kenya, Malaysia, Philippines, Poland, Romania, Slovakia, South Africa, Spain, Sri Lanka, Taiwan, Turkey, and United Kingdom. Interested parties may submit comments on this transaction by email to economic.impact@exim.gov or by mail to 811 Vermont Avenue NW., Room 442, Washington, DC 20571, within 14 days of the date this notice appears in the Federal Register.

Angela Mariana Freyre,
Senior Vice President and General Counsel.

[FR Doc. 2012-27909 Filed 11-15-12; 8:45 am]

BILLING CODE 6690-01-P